OFFICE OF PERSONNEL MANAGEMENT

Excepted Service

AGENCY: U.S. Office of Personnel Management (OPM).

ACTION: Notice.

SUMMARY: This notice identifies Schedule A, B, and C appointing authorities applicable to a single agency that were established or revoked from November 1, 2014, to November 30, 2014.

FOR FURTHER INFORMATION CONTACT: Senior Executive Resources Services, Senior Executive Services and Performance Management, Employee Services, (202) 606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

05. Department of the Treasury (Sch. A, 213.3105)

(a) Office of the Secretary—

(1) Not to exceed 20 positions at the equivalent of GS-13 through GS-15 or Senior Level (SL) to supplement permanent staff in the study of complex problems relating to international financial, economic, trade, and energy policies and programs of the Government, when filled by individuals with special qualifications for the particular study being undertaken. Employment under this authority may not exceed 4 years.

05. Department of the Treasury (Sch. A, 213.3105)

(h) Office of Financial Stability—

(1) Positions needed to perform investment, risk, financial, compliance, and asset management requiring unique qualifications currently not established by OPM. Positions will be in the Office of Financial Stability at the General Schedule (GS) grade levels 12-15 or Senior Level (SL), for initial employment not to exceed 4 years. No new appointments may be made under this authority after December 31, 2012.

Schedule B

No Schedule B authorities to report during November 2014.

Schedule C

The following Schedule C appointing authorities were approved during November 2014.

Agency name | Organization name | Position title | Authorization No. | Effective date
Department of Agriculture | Office of the Deputy Secretary | Confidential Assistant | DA150021 | 11/18/2014
Department of Commerce | Office of the Under Secretary | Senior Advisor for Trade and Strategic Initiatives | DC150012 | 11/6/2014
| Office of the Assistant Secretary and Director General for United States and Foreign Commercial Service | Senior Director | DC150016 | 11/10/2014
| Office of the Deputy Secretary | Deputy Chief Data Officer | DC150020 | 11/10/2014
| Office of the Chief Financial Officer and Assistant Secretary for Administration | Senior Director for Management and Performance and Chief of Staff for Administration | DC150019 | 11/13/2014
Commission on Civil Rights | Office of Commissioners | Special Assistant | CC150001 | 11/13/2014
Department of Defense | Office of the Assistant Secretary of Defense (Global Strategic Affairs) | Special Assistant for Strategy, Plans and Forces | DD150013 | 11/13/2014
| Office of Assistant Secretary of Defense (Public Affairs) | Speechwriter | DD150018 | 11/13/2014
| Washington Headquarters Services | Defense Fellow | DD150019 | 11/17/2014
| Office of the Secretary of Defense | Advance Officer (3) | DD150020 DD150021 DD150028 | 11/21/2014 11/21/2014 11/21/2014
Department of the Army | Office of Assistant Secretary Army (Manpower and Reserve Affairs) | Special Assistant(Manpower and Reserve Affairs) | DW150003 | 11/25/2014
Department of Education | Office of Innovation and Improvement | Special Assistant | DB150016 | 11/14/2014
| Office for Civil Rights | Confidential Assistant | DB150017 | 11/14/2014
| Office of the Secretary | Special Assistant | DB150019 | 11/24/2014
| Office of Legislation and Congressional Affairs | Special Assistant | DB150022 | 11/24/2014
Department of Energy | Office of Public Affairs | Digital Communications Specialist | DE150010 | 11/4/2014
Environmental Protection Agency | Office of the Administrator | Special Assistant | EP150006 | 11/10/2014
| Office of Advance Staff | Deputy for Advance | EP150007 | 11/13/2014
Department of Health and Human Services | Office of the Secretary | Confidential Assistant | DH150023 | 11/4/2014
| Office of the Assistant Secretary for Preparedness and Response | Special Assistant for Preparedness and Response | DH150027 | 11/10/2014
| Office of Intergovernmental and External Affairs | Outreach Coordinator Director, Center for Faith-Based and Neighborhood Partnerships Regional Director, San Francisco, California, Region IX | DH150029 DH150026 DH150035 | 11/10/2014 11/13/2014 11/14/2014
| Office of Communications | Senior Advisor | DH150039 | 11/26/2014
| Office of the Assistant Secretary for Public Affairs | Communications Director for Human Services | DH150040 | 11/26/2014
Department of Homeland Security | Ombudsman, Citizenship and Immigration Services | Public Affairs Specialist | DM150013 | 11/3/2014
| Office of the Assistant Secretary for Intergovernmental Affairs | Intergovernmental Affairs Coordinator | DM150024 | 11/7/2014
| Office of the Executive Secretariat | Writer-Editor | DM150025 | 11/7/2014
| Office of the Assistant Secretary for Policy | Senior Director | DM150026 | 11/7/2014
| United States Customs and Border Protection | Special Advisor Advisor | DM150029 DM150030 | 11/17/2014 11/17/2014
| Office of the Under Secretary for Science and Technology | Advisor | DM150032 | 11/18/2014
| United States Immigration and Customs Enforcement | Special Assistant | DM150034 | 11/18/2014
Department of the Interior | Secretary's Immediate Office | Special Assistant White House Liaison | DI150010 DI150011 | 11/14/2014 11/14/2014
| Office of Assistant Secretary—Land and Minerals Management | Senior Advisor | DI150009 | 11/20/2014
| Bureau of Reclamation | Advisor | DI150007 | 11/25/2014
Department of Justice | Executive Office for United States Attorneys | Counsel | DJ150016 | 11/3/2014
| Office of the Attorney General | Special Assistant | DJ150020 | 11/24/2014
Department of Labor | Employment and Training Administration | Director of Center for Workforce Industry Partnerships | DL150010 | 11/7/2014
| Office of the Secretary | Scheduler | DL150012 | 11/14/2014
| Women's Bureau | Senior Advisor | DL150014 | 11/20/2014
Office of Management and Budget | Legislative Affairs | Confidential Assistant | BO150004 | 11/17/2014
Office of Science and Technology Policy | Office of Science and Technology Policy | Special Assistant | TS150003 | 11/25/2014
Small Business Administration | Office of Communications and Public Liaison | Deputy Assistant Administrator for Communications and Public Liaison | SB150008 | 11/6/2014
Department of State | Office of the Under Secretary for Management | Special Assistant | DS150007 | 11/10/2014
| Office of the Under Secretary for Civilian Security, Democracy, and Human Rights | Senior Advisor | DS150008 | 11/10/2014
Department of Transportation | Office of the Secretary | Special Assistant | DT150007 | 11/5/2014
| Office of Assistant Secretary for Governmental Affairs | Director of Governmental Affairs Associate Director for State and Local Governmental Affairs | DT150010 DT150013 | 11/13/2014 11/25/2014
Department of the Treasury | Office of the Assistant Secretary (Public Affairs) | Senior Advisor Special Assistant | DY150008 DY150009 | 11/14/2014 11/14/2014

The following Schedule C appointing authorities were revoked during November 2014.

Agency name | Organization name | Position title | Authorization number | Vacate date
Department of Commerce | Office of Public Affairs | Director of Digital Strategy | DC120070 | 11/1/2014
| Office of the Chief Financial Officer and Assistant Secretary for Administration | Senior Director for Performance and Business Process Improvement | DC120136 | 11/15/2014
Department of Energy | Office of Public Affairs | Assistant Press Secretary | DE130119 | 11/1/2014
| Office of the Deputy Secretary | Special Advisor | DE130113 | 11/1/2014
Federal Energy Regulatory Commission | Office of the Secretary of Commissioners | Confidential Assistant | DR140006 | 11/9/2014
Department of Health and Human Services | Health Resources and Services Administration and Office of the Administrator | Special Assistant | DH130111 | 11/1/2014
| Office of the Assistant Secretary for Children and Families | Special Assistant to the Principal Deputy Assistant Secretary for Children and Families | DH110108 | 11/1/2014
| Office of the Assistant Secretary for Preparedness and Response | Special Assistant to the Assistant Secretary for Preparedness and Response | DH140122 | 11/1/2014
| Office of the Assistant Secretary for Planning and Evaluation | Deputy Director | DH090232 | 11/15/2014
| Office of Intergovernmental and External Affairs | Special Assistant | DH140017 | 11/15/2014
Department of Homeland Security | United States Immigration and Customs Enforcement | Special Assistant | DM110235 | 11/1/2014
| Office of the Chief of Staff | Special Assistant | DM130137 | 11/1/2014
|  | White House Liaison | DM130171 | 11/1/2014
| Office of the Secretary | Special Assistant | DM140151 | 11/1/2014
Department of Housing and Urban Development | Office of the Secretary | Special Assistant | DU130041 | 11/1/2014
| Office of the Chief Human Capital Officer | Advance Coordinator | DU130047 | 11/1/2014
| Office of Congressional and Intergovernmental Relations | Congressional Relations Officer | DU130048 | 11/15/2014
Department of the Interior | Secretary's Immediate Office | White House Liaison | DI130054 | 11/1/2014
Department of Justice | Office of Legislative Affairs | Legislative Assistant | DJ100152 | 11/7/2014
| Executive Office for United States Attorneys | Counsel | DJ130035 | 11/15/2014
| Antitrust Division | Senior Counsel | DJ130066 | 11/22/2014
Department of Labor | Office of the Assistant Secretary for Policy | Senior Policy Advisor | DL130023 | 11/1/2014
| Office of the Solicitor | Senior Counselor to the Solicitor | DL130015 | 11/1/2014

Authority: 5 U.S.C. 3301 and 3302; E.O. 10577, 3 CFR, 1954-1958 Comp., p. 218.

U.S. Office of Personnel Management.
Katherine Archuleta,
Director.

[FR Doc. 2015-03390 Filed 2-18-15; 8:45 am]

BILLING CODE 6325-39-P